DEPARTMENT OF FEDERAL TRADE COMMISSION

Delegation of Authority To Respond to Requests From the United Kingdom's Office of Fair Trading, the United Kingdom's Information Commissioner, Her Majesty's Secretary of State for Trade and Industry in the United Kingdom, the Australian Competition and Consumer Commission, and the Australian Communications Authority

AGENCY: Federal Trade Commission.

ACTION: Delegation of authority.

SUMMARY: The Commission has delegated authority to the Associate Director for International Consumer Protection to respond to disclosure and other requests from the United Kingdom's Office of Fair Trading, the United Kingdom's Information Commissioner, Her Majesty's Secretary of State for Trade and Industry in the United Kingdom, the Australian Competition and Consumer Commission, and the Australian Communications Authority regarding unsolicited commercial e-mail pursuant to a memorandum of understanding with the Commission.

EFFECTIVE DATE: June 29, 2004.

FOR FURTHER INFORMATION CONTACT: Yael Weinman, Legal Advisor for International Consumer Protection, International Division of Consumer Protection, (202) 326-3748, yweinman@ftc.gov.

SUPPLEMENTARY INFORMATION: Notice is hereby given, pursuant to Reorganization Plan No. 4 of 1961, 26 FR 6191, that the Commission has delegated to the Associate Director for International Consumer Protection the authority to respond to disclosure and other requests from the United Kingdom's Office of Fair Trading, the United Kingdom's Information Commissioner, Her Majesty's Secretary of State for Trade and Industry in the United Kingdom, the Australian Competition and Consumer Commission, and the Australian Communications Authority pursuant to a memorandum of understanding with the Commission about commercial e-mail information sharing and enforcement cooperation. This delegated authority does not apply to competition-related investigations. When exercising its authority under this delegation, staff may only disclose information regarding commercial e-mail investigations that involve consumers, businesses, commerce or markets in the United Kingdom or Australia, as applicable, and will require assurances of confidentiality from the United Kingdom's Office of Fair Trading, the United Kingdom's Information Commissioner, Her Majesty's Secretary of State for Trade and Industry in the United Kingdom, the Australian Competition and Consumer Commission, or the Australian Communications Authority, as applicable. Disclosures shall be made only to the extent consistent with current limitations on disclosure, including section 6(f) of the FTC Act, 15 U.S.C. 46(f), section 21 of the Act, 15 U.S.C. 57b-2, and Commission Rule 4.10(d), 16 CFR 4.10(d), and with the Commission's enforcement policies and other important interests. Where the subject matter of the information to be shared raises significant policy concerns, staff shall consult with the Commission before disclosing such information.

By direction of the Commission.
Donald S. Clark,
Secretary.

[FR Doc. 04-16759 Filed 7-22-04; 8:45 am]

BILLING CODE 6750-01-M